DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed new collection of the American Time Use Survey (ATUS). A copy of the proposed information collection request (ICR) can be obtained by contacting the individual listed below in the ADDRESSES section of this notice.

DATES: Written comments must be submitted to the office listed in the Addresses section of this notice on or before February 12, 2002.

ADDRESSES: Send comments to Amy A. Hobby, BLS Clearance Officer, Division of Management Systems, Bureau of Labor Statistics, Room 3255, 2 Massachusetts Avenue, NE., Washington, DC 20212, telephone number 202-691-7628 (this is not a toll free number).

FOR FURTHER INFORMATION CONTACT: Amy A. Hobby, BLS Clearance Officer, telephone number 202-691-7628. (See ADDRESSES section.)

SUPPLEMENTARY INFORMATION:

I. Background

According to economist William Nordhaus, “Inadequate data on time-use is the single most important gap in federal statistics' (1997). Approximately 50 other countries collect, or will soon collect, time-use data. Such data are considered important indicators of quality of life. They measure, for example, time spent with children, working, sleeping, or doing leisure activities. In the United States, several existing Federal surveys collect income and wage data for individuals and families, and analysts often use such measures of material prosperity as proxies for quality of life. Time-use data will substantially augment these quality-of-life measures. The data can also be used in conjunction with wage data to evaluate the contribution of non-market work to national economies. This enables comparisons of production between nations that have different mixes of market and non-market activities.

The ATUS will develop nationally representative estimates of how people spend their time. Respondents will also report who was with them during activities, where they were, how long each activity lasted, and if they were paid.

All of this information will have numerous practical applications for sociologists, economists, educators, government policy makers, businesspersons, lawyers, and others, potentially answering the following questions: Do the ways people use their time vary across demographic and labor force characteristics, such as age, sex, race, ethnicity, employment status, earnings, and education? How much time do parents spend in the company of their children, either actively providing care, occasionally checking on them, or being with them while socializing, relaxing, or doing other things? How are earnings related to leisure time'do those with higher earnings spend more or less time relaxing and socializing? Where do people work'at a workplace, in their homes, or someplace else? For application in personal injury or wrongful death cases: What is the approximate value of non-market work, such as household activities or childcare, in one's day? What are some non-economic effects of government policy decisions? Should lawmakers develop new or change existing policies to address the changing needs of our society? The ATUS data will be collected on an ongoing, monthly basis, so time series data will eventually become available, allowing analysts to identify changes in how people spend their time.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget clearance is being sought for the new collection of the American Time Use Survey. This survey will collect information on how individuals in the United States use their time. Collection will be on a continuous, monthly basis. The survey sample will be drawn from households completing their final month of interviews for the Current Population Survey (CPS). Households will be selected to ensure a representative demographic sample, and one individual from each household will be selected to take part in one Computer Assisted Telephone Interview. The interview will ask respondents to report all of their activities for one pre-assigned 24-hour day, the day prior to the interview. A short series of summary questions and CPS updates follows the core time diary collection. After one full year of collection, annual national estimates of time use for an average weekday or weekend day will be available. Eventually, time series data will be available.

Because the ATUS sample will be a subset of households completing interviews for the CPS, the same demographic information collected from that survey will be available for the ATUS respondents. Comparisons of activity patterns across characteristics such as sex, race, age, and education of the respondent, as well as the presence of children and the number of adults living in the respondent's household will be possible.

Type of Review: New Collection.

Agency: Bureau of Labor Statistics

Title: American Time Use Survey.

OMB Number: 1220-NEW.

Affected Public: Individuals.

Total Respondents: 24,000.

Frequency: Monthly.

Total Responses: 24,000.

Average Time Per Response: 30 minutes.

Estimated Total Burden Hours: 12,000 hours.

Total Burden Cost (capital/startup): $0.

Total Burden Cost (operating/maintenance): $0.

Comments submitted in response to this notice will be summarized and/or included in the request for Office of Management and Budget approval of the information collection request; they also will become a matter of public record.

Signed at Washington, DC, this 7th day of December, 2001.
Jesús Salinas,
Acting Chief, Division of Management Systems, Bureau of Labor Statistics.

[FR Doc. 01-30855 Filed 12-13-01; 8:45 am]

BILLING CODE 4510-28-P